DEPARTMENT OF THE TREASURY

Open Meeting of the Financial Research Advisory Committee

AGENCY: Office of Financial Research, Department of the Treasury.

ACTION: Notice of open meeting.

SUMMARY: The Financial Research Advisory Committee for the Treasury's Office of Financial Research is convening for its first meeting on Wednesday, December 5, 2012 in the Cash Room, Department of the Treasury, 1500 Pennsylvania Avenue NW., Washington, DC 20220, beginning at 10 a.m. Eastern Time. The meeting will be open to the public via live webcast at http://www.treasury.gov/ofr and limited seating may also be available.

DATES: The meeting will be held on Wednesday, December 5, 2012, beginning at 10 a.m. Eastern Time.

ADDRESSES: The meeting will be held in the Cash Room, Department of the Treasury, 1500 Pennsylvania Avenue NW., Washington, DC 20220. The meeting will be open to the public via live webcast at http://www.treasury.gov/ofr. A limited number of seats may be available for those interested in attending the meeting in person, and those seats would be on a first-come, first-served basis. Because the meeting will be held in a secured facility, members of the public who plan to attend the meeting must contact the Office of Financial Research (OFR) by email at andrea.b.ianniello@treasury.gov by 5 p.m. Eastern Time on November 26, 2012 to inform the OFR of their desire to attend the meeting and to receive further instructions about building clearance.

FOR FURTHER INFORMATION CONTACT: Andrea Ianniello, Designated Federal Officer, Office of Financial Research, Department of the Treasury, 1500 Pennsylvania Avenue NW., Washington, DC 20220, (202) 622-3002 (this is not a toll-free number), andrea.b.ianniello@treasury.gov. Persons who have difficulty hearing or speaking may access this number via TTY by calling the toll-free Federal Relay Service at 800-877-8339.

SUPPLEMENTARY INFORMATION: Notice of this meeting is provided in accordance with the Federal Advisory Committee Act, 5 U.S.C. App. 2, 10(a)(2), through implementing regulations at 41 CFR 102-3.150.

Public Comment: Members of the public wishing to comment on the business of the Financial Research Advisory Committee are invited to submit written statements by any of the following methods:

• Electronic Statements. Email the Committee's Designated Federal Officer at andrea.b.ianniello@treasury.gov.

• Paper Statements. Send paper statements in triplicate to the Financial Research Advisory Committee, Attn: Andrea Ianniello, Office of Financial Research, Department of the Treasury, 1500 Pennsylvania Avenue NW., Washington, DC 20220.

The Department will post statements on its Web site, http://www.treasury.gov/ofr, including any business or personal information provided, such as names, addresses, email addresses, or telephone numbers. The Department of the Treasury will also make such statements available for public inspection and copying in the Department of the Treasury's library, Room 1428, 1500 Pennsylvania Avenue NW., Washington, DC 20220 on official business days between the hours of 10 a.m. and 5 p.m. Eastern Time. You may make an appointment to inspect statements by telephoning (202) 622-0990. All statements, including attachments and other supporting materials, will be part of the public record and subject to public disclosure. You should submit only information that you wish to make available publicly.

Tentative Agenda/Topics for Discussion: The Committee provides an opportunity for researchers, industry leaders, and other qualified individuals to offer their advice and recommendations to the OFR, which, among other things, is responsible for collecting and standardizing data on financial institutions and their activities and for supporting the work of financial regulatory agencies.

This is the first meeting of the Financial Research Advisory Committee. At this meeting, Committee members may be introduced, briefed on the Committee Charter and Bylaws, and presented with OFR updates and other topics of discussion. For more information on the OFR and the Committee, please visit the OFR Web site at http://www.treasury.gov/ofr.

Dated: November 14, 2012.
Michele Shannon,
Chief Operating Officer, Office of Financial Research.

[FR Doc. 2012-28193 Filed 11-19-12; 8:45 am]

BILLING CODE 4810-25-P